DEPARTMENT OF TRANSPORTATION

Pipeline and Hazardous Materials Safety Administration

49 CFR Part 172

[Docket No. PHMSA-05-21812 (HM-218D)]

RIN 2137-AE10

Hazardous Materials; Miscellaneous Amendments

Correction

In rule document E8-1211 beginning on page 4699 in the issue of Monday, January 28, 2008 make the following correction:

§172.101 [Corrected]

On page 4715, in §172.101.—Hazardous Materials Table, in column (8A), in the third entry, “50” should read “150”.

[FR Doc. Z8-1211 Filed 5-15-08; 8:45 am]

BILLING CODE 1505-01-D

DEPARTMENT OF THE TREASURY

Internal Revenue Service

26 CFR Parts 1, 20, 25, 26, 31, 40, 41, 44, 53, 54, 55, 56, 156, 157, and 301

[REG-129243-07]

RIN 1545-BG83

Tax Return Preparer Penalties Under Sections 6694 and 6695

Correction

In proposed rule document E8-12898 beginning on page 34560 in the issue of Tuesday, June 17, 2008, make the following correction:

On page 34563, in the third column, in the third full paragraph, in the first line, “§ 6694-1(b)(1)” should read “§ 1.6694-1(b)(1)”.

[FR Doc. Z8-12898 Filed 5-15-08; 8:45 am]

BILLING CODE 1505-01-D